DEPARTMENT OF HOMELAND SECURITY

Coast Guard

[Docket No. USCG-2022-0347]

Seventh Coast Guard District Southeast Atlantic Coast Port Access Route Study: Port Approaches and International Entry and Departure Transit Areas

AGENCY: Coast Guard, DHS.

ACTION: Notice of study; request for comments.

SUMMARY: The Coast Guard is beginning a series of studies to gather more information about routes used by ships, to access ports on the Southeast Atlantic Coast of the United States. This action is being taken in support of the provisions provided in Public Law 117-169, commonly referred to as the Inflation Reduction Act of 2022 (IRA), and Executive Order on the Implementation of the Energy and Infrastructure Provisions of the Inflation Reduction Act of 2022 (E.O. 14082). These studies will be separate from, but may expand upon, the proposals in the other Coast Guard rulemakings.

DATES: The Coast Guard Seventh District Commander will schedule individual, localized Port Access Route Studies (PARS) for specific port approaches and international transit areas to ports on the Atlantic Coast of South Carolina, Georgia, Florida, Commonwealth of Puerto Rico, and the U.S. Virgin Islands. This initiative is expected to be completed by December 2026. Comments and related material must be received on or before February 13, 2023. Requests for a public meeting must be submitted on or before January 13, 2023.

ADDRESSES: You may submit comments identified by docket number USCG-2022-0347 using the Federal eRulemaking Portal http://www.regulations.gov. See the “Public Participation and Request for Comments” portion of the SUPPLEMENTAL INFORMATION section for further instructions on submitting comments.

FOR FURTHER INFORMATION CONTACT: If you have questions about this notice or study, call or email LT Ryan Gilbert, Seventh Coast Guard District (dpw), U.S. Coast Guard; telephone (305) 415-6750, email Ryan.A.Gilbert@uscg.mil.

SUPPLEMENTARY INFORMATION:

I. Table of Abbreviations

ACPARS Atlantic Coast Port Access Route Study

AIS Automatic Identification System

ANPRM Advanced Notice of Proposed Rulemaking

COMDTINST Commandant Instruction

CFR Code of Federal Regulations

COTP Captain of the Port

DHS Department of Homeland Security

EEZ Exclusive Economic Zone

EO Executive Order

FL Florida

FR Federal Register

GA Georgia

IRA Inflation Reduction Act

MTS Marine Transportation System Information Bulletin

PARS Port Access Route Study

NM Nautical Mile

NPRM Notice of Proposed Rulemaking

SC South Carolina

TSS Traffic Separation Scheme

U.S. United States

U.S.C. United States Code

II. Public Participation and Request for Comments

We encourage you to participate in this study by submitting comments and related materials. All comments received will be posted without change to http://www.regulations.gov and will include any personal information you have provided.

A. Submitting Comments: If you submit comments to the online public docket, please include the docket number for this rulemaking (USCG-2022-0347), indicate the specific section of this document to which each comment applies, and provide a reason for each suggestion or recommendation. We accept anonymous comments.

To submit your comment online, go to http://www.regulations.gov, and insert “USCG-2022-0347” in the “search box.” Click “Search”. Then click “Comment Now.” We will consider all comments and material received during the comment period.

B. Public Meetings: The Coast Guard may hold public meeting(s) if there is sufficient public interest. You must submit a request for one on or before January 13, 2023. You may submit your request for a public meeting online via http://www.regulations.gov. Please explain why you believe a public meeting would be beneficial. If we determine that a public meeting would aid in the study, we will hold a meeting at a time and place announced by a later notice in the Federal Register.

C. Viewing Comments and Documents: To view the comments and documents mentioned in this preamble as being available in the docket, go to http://www.regulations.gov, click on the “read comments” box, which will then become highlighted in blue. In the “Keyword” box insert “USCG-2022-0347” and click “Search.” Click the “Open Docket Folder” in the “Actions” column.

D. Privacy Act: We accept anonymous comments. All comments received will be posted without change to https://www.regulations.gov and will include any personal information you have provided. For more about privacy and submissions in response to this document, see DHS's Correspondence System of Records notice (84 FR 48645, September 26, 2018). Documents mentioned in this notice as being available in the docket, and all public comments, will be in our online docket at https://www.regulations.gov and can be viewed by following that website's instructions. Additionally, if you go to the online docket and sign up for email alerts, you will be notified when comments are posted, or a final rule is published.

III. Definitions

Fairway or shipping safety fairway means a lane or corridor in which no artificial island or fixed structure, whether temporary or permanent, will be permitted. See 33 CFR 166.105 (a).

International Entry and Departure Transit Areas means navigation routes followed by vessels coming to or departing from the United States or an international seaport. For these studies, international entry and departure transit areas will connect to recommend shipping safety fairways at the outer limit of the U.S. Exclusive Economic Zone (EEZ).

Port Approaches mean navigation routes followed by vessels entering or departing a seaport from or to a primary transit route. These studies will consider port approaches that connect seaports to recommended shipping safety fairways described in the Atlantic Coast Port Access Route Study (ACPARS).

IV. Discussion

The Coast Guard is beginning a series of new studies regarding port approaches and international entry and departure transit areas, to ports on the Atlantic Coast of South Carolina, Georgia, Florida, Commonwealth of Puerto Rico, and the U.S. Virgin Islands. These routes are critical links of a robust and effective Marine Transportation System (MTS) and integral to efficient movement between ports and shipping safety fairways along the Atlantic Coast.

Section 50251 of the IRA allows the Department of the Interior to grant leases, easements, and rights-of-way previously withdrawn in the Presidential memorandum entitled “Memorandum on the Withdrawal of Certain Areas of the United States Outer Continental Shelf from Leasing Disposition” and dated September 8, 2020; or the Presidential memorandum entitled “Presidential Determination on the Withdrawal of Certain Areas of the United States Outer Continental Shelf from Leasing Disposition” and dated September 25, 2020. Additionally, section 50251 of the IRA expanded the authority under the Outer Continental Shelf Lands Act to include waters adjacent to any territory of the United States, specifically the Commonwealth of Puerto Rico. These new studies are focused on routes between port approaches and international entry and departure transit areas that would potentially be impacted through the creation of new, renewable offshore energy projects, created as a result of the implementation of the IRA.

The Ports and Waterways Safety Act, (PWSA)(46 U.S.C. 70003(c)(1)), authorizes the Commandant of the Coast Guard to designate necessary fairways and traffic separations schemes (TSSs) to provide safe access routes for vessels proceeding to and from United States ports. The designation of fairways and TSSs recognizes the paramount right of navigation over all other uses in the designated areas.

Before establishing or adjusting fairways, 46 U.S.C. 70003(c)(1) requires the Coast Guard to study potential traffic density and assess the need for safe access routes for vessels. During this process, the Coast Guard considers the views of the maritime community, environmental groups, and other stakeholders to reconcile the need for safe access routes with reasonable waterway uses. See 46 U.S.C. 70003(c)(3).

An analysis of potential traffic density, involving vessels proceeding to and from a U.S. port, is referred to as a Port Access Route Study (PARS). Several PARS will examine ports along the Southeast Atlantic Coast of the U.S. and U.S. Territories that are economically significant, support military operations, or are critical to national defense, and related international entry and departure transit areas. In particular the PARS will study areas that are integral to the safe, efficient and unimpeded flow of commerce to/from major international shipping lanes. Similar to the ACPARS, this PARS will use Automatic Identification System (AIS) data and information from stakeholders to identify and verify customary navigation routes as well as potential conflicts involving alternative activities, such as wind energy generation and offshore mineral exploitation and exploration.

V. Timeline, Scope, and Process

The Seventh Coast Guard District will conduct this PARS. The study will commence upon publication of this notice and may take 12 months or more to complete.

The study area is bounded by a line connecting the following geographic positions:

1. 33°51′7″ N 078°32′27″ W to;

2. 32°26′38″ N 075°55′34″ W to;

3. 25°24′28″ N 079°56′37″ W to;

4. 25°09′2″ N 080°00′15″ W to;

5. 24°53′1″ N 080°12′27″ W to;

6. 24°25′53″ N 081°03′18″ W to;

7. 24°14′49″ N 081°53′7″ W thence following an arc of 12nm around a center point of Loggerhead Key, FL to;

8. 24°25′7″ N 082°55′50″ W to;

9. 24°50′16″ N 082°55′29″ W to;

10. 25°03′31″ N 081°22′23″ W to;

11. 25°11′41″ N 081°08′51″ W thence following the coastline back to origin.

This area extends approximately 185 nautical miles seaward of the North Carolina/South Carolina Border then approximately follows the territorial sea from Miami around the Florida Keys. An illustration showing the study area is available in the docket where indicated under ADDRESSES. Additionally, the study area is available for viewing on the Navigation Center's website at: https://www.navcen.uscg.gov/port-access-route-study-reports.

The Coast Guard will analyze ports that are economically significant, that support military operations, or are strategic for national defense along the Southeast Atlantic Coast and U.S. Territory. This study includes but is not limited to:

—Port of Charleston, SC; Port of Savannah, GA; Port of Brunswick, GA from January 2023 to December 2023

— Port of Kings Bay, GA; Port of Jacksonville, FL from January 2024 to December 2024

— Port Canaveral, FL; Port Everglades, FL; Port Miami, FL; Port of Key West from January 2025 to December 2025

— Ports of the Commonwealth of Puerto Rico and U.S. Virgin Islands from January 2026 to December 2026

VI. Methodology

These studies will analyze navigation routes to and from the ports identified above to their proposed fairways, as well as international routes to and from the United States. Current capabilities and planned improvements in these ports to handle maritime conveyances will be considered. Analyses will be conducted in accordance with Marine Planning to Operate and Maintain the Marine Transportation System (MTS) and Implement National Policy, COMDTINST 16003.2B, and coordinated by the cognizant District Commander. This instruction is available at https://media.defense.gov/2019/Jul/10/2002155400/-1/-1/0/CI_16003_2B.PDF. Notices of study will be published in the Federal Register to inform and solicit public comments for each PARS.

We will publish the results of the PARS in the Federal Register. It is possible that the study may validate the status quo (no fairways or routing measures) and conclude that no changes are necessary. It is also possible that the study may recommend one or more changes to address navigational safety and the efficiency of vessel traffic management. The recommendations may lead to future rulemakings or appropriate international agreements.

This notice is issued under authority of 46 U.S.C. 70003(c) and 5 U.S.C.552(a).

Dated: December 9, 2022.
Brendan C. McPherson,
Rear Admiral, U.S. Coast Guard, Commander, Seventh Coast Guard District.

[FR Doc. 2022-27133 Filed 12-13-22; 8:45 am]

BILLING CODE P